DEPARTMENT OF HEALTH AND HUMAN SERVICES

Food and Drug Administration

[Docket No. FDA-2024-N-5354]

Determination That Bentyl Preservative Free (Dicyclomine Hydrochloride) Injection, 10 Milligrams/Milliliters, and Other Drug Products Were Not Withdrawn From Sale for Reasons of Safety or Effectiveness

AGENCY: Food and Drug Administration, HHS.

ACTION: Notice.

SUMMARY: The Food and Drug Administration (FDA or Agency) has determined that the drug products listed in this document were not withdrawn from sale for reasons of safety or effectiveness. This determination means that FDA will not begin procedures to withdraw approval of abbreviated new drug applications (ANDAs) that refer to these drug products, and it will allow FDA to continue to approve ANDAs that refer to the products as long as they meet relevant legal and regulatory requirements.

FOR FURTHER INFORMATION CONTACT: Stacy Kane, Center for Drug Evaluation and Research, Food and Drug Administration, 10903 New Hampshire Ave., Bldg. 51, Rm. 6236, Silver Spring, MD 20993-0002, 301-796-8363, Stacy.Kane@fda.hhs.gov.

SUPPLEMENTARY INFORMATION: Section 505(j) of the Federal Food, Drug, and Cosmetic Act (FD&C Act) (21 U.S.C. 355(j)) allows the submission of an ANDA to market a generic version of a previously approved drug product. To obtain approval, the ANDA applicant must show, among other things, that the generic drug product: (1) has the same active ingredient(s), dosage form, route of administration, strength, conditions of use, and (with certain exceptions) labeling as the listed drug, which is a version of the drug that was previously approved, and (2) is bioequivalent to the listed drug. ANDA applicants do not have to repeat the extensive clinical testing otherwise necessary to gain approval of a new drug application (NDA).

Section 505(j)(7) of the FD&C Act requires FDA to publish a list of all approved drugs. FDA publishes this list as part of the “Approved Drug Products With Therapeutic Equivalence Evaluations,” which is generally known as the “Orange Book.” Under FDA regulations, a drug is removed from the list if the Agency withdraws or suspends approval of the drug's NDA or ANDA for reasons of safety or effectiveness, or if FDA determines that the listed drug was withdrawn from sale for reasons of safety or effectiveness (21 CFR 314.162).

Under § 314.161(a) (21 CFR 314.161(a)), the Agency must determine whether a listed drug was withdrawn from sale for reasons of safety or effectiveness: (1) before an ANDA that refers to that listed drug may be approved, (2) whenever a listed drug is voluntarily withdrawn from sale and ANDAs that refer to the listed drug have been approved, and (3) when a person petitions for such a determination under 21 CFR 10.25(a) and 10.30. Section 314.161(d) provides that if FDA determines that a listed drug was withdrawn from sale for safety or effectiveness reasons, the Agency will initiate proceedings that could result in the withdrawal of approval of the ANDAs that refer to the listed drug.

FDA has become aware that the drug products listed in the table are no longer being marketed.

Table 1—Drug Products Not Withdrawn From Sale for Reasons of Safety or Effectiveness
Application No. | Drug name | Active ingredient(s) | Dosage form/route | Strength(s) | Applicant
NDA 008370 | BENTYL PRESERVATIVE FREE | Dicyclomine Hydrochloride | Injectable; Injection | 10 Milligrams (mg)/Milliliters (mL) | AbbVie.
NDA 012104 | KENALOG | Triamcinolone Acetonide | Spray; Topical | 0.147 mg/Gram (g) | Sun Pharmaceutical Industries Limited.
NDA 017806 | THALLOUS CHLORIDE TL 201 | Thallous Chloride TL-201 | Injectable; Intravenous | 1 Millicurie (mCi)/mL; 2 mCi/mL | Lantheus.
NDA 017823 | HALOG | Halcinonide | Solution; Topical | 0.10% | Sun Pharmaceutical Industries Limited.
NDA 018849 | LIDEX | Fluocinonide | Solution; Topical | 0.05% | Alvogen.
NDA 020551 | NIMBEX | Cisatracurium Besylate | Injectable; Injection | Equivalent to (EQ) 2 mg Base/mL | AbbVie.
NDA 020551 | NIMBEX PRESERVATIVE FREE | Cisatracurium Besylate | Injectable; Injection | EQ 2 mg Base/mL; EQ 10 mg Base/mL | AbbVie.
NDA 020837 | XOPENEX | Levalbuterol Hydrochloride | Solution; Inhalation | EQ 0.0103% Base; EQ 0.021% Base; EQ 0.042% Base; EQ 0.25% Base | Hikma.
NDA 020857 | COMBIVIR | Lamivudine; Zidovudine | Tablet; Oral | 150 mg; 300 mg | Viiv Health Care.
NDA 020977 | ZIAGEN | Abacavir Sulfate | Tablet; Oral | EQ 300 mg Base | Viiv Health Care.
NDA 021205 | TRIZIVIR | Abacavir Sulfate, Lamivudine, Zidovudine | Tablet; Oral | EQ 300 mg Base, 150 mg, 300 mg | Viiv Health Care.
NDA 021223 | ZOMETA | Zoledronic Acid | Injectable; Intravenous | EQ 4 mg Base/100 mL; EQ 4 mg Base/5 mL | Novartis.
NDA 021548 | LEXIVA | Fosamprenavir Calcium | Tablet; Oral | EQ 700 mg Base | Viiv Health Care.
NDA 021695 | ANTARA (MICRONIZED) | Fenofibrate | Capsule; Oral | 90 mg | Lupin.
NDA 021738 | EXTINA | Ketoconazole | Aerosol, Foam; Topical | 2% | Mylan.
NDA 021861 | PATANASE | Olopatadine Hydrochloride | Spray, Metered; Nasal | 0.665 mg/Spray | Novartis.
NDA 022128 | SELZENTRY | Maraviroc | Tablet; Oral | 25 mg; 75 mg | Viiv Health Care.
NDA 022350 | ONGLYZA | Saxagliptin Hydrochloride | Tablet; Oral | EQ 2.5 mg Base; EQ 5 mg Base | AstraZeneca AB.
NDA 050440 | KEFLET | Cephalexin | Tablet; Oral | EQ 250 mg Base; EQ 500 mg Base | Eli Lilly and Company.
NDA 050558 | ZINACEF | Cefuroxime Sodium | Injectable; Intramuscular, Intravenous | EQ 750 mg Base/Vial; EQ 1.5 g Base/Vial; EQ 7.5 g Base/Vial | PAI Pharma.
NDA 050567 | POLYTRIM | Polymyxin B Sulfate, Trimethoprim Sulfate | Solution/Drops; Ophthalmic | 10,000 Units/mL, EQ 1 mg Base/mL | Allergan.
NDA 050588 | CEFOTAN | Cefotetan Disodium | Injectable; Injection | EQ 10 g Base/Vial | PAI Pharma.
NDA 050795 | DORYX | Doxycycline Hyclate | Tablet, Delayed Release; Oral | EQ 75 mg Base; EQ 150 mg Base | Mayne Pharma.
NDA 200678 | KOMBIGLYZE XR | Metformin Hydrochloride, Saxagliptin Hydrochloride | Tablet, Extended Release; Oral | 500 mg, EQ 5 mg Base; 1 g, EQ 5 mg Base; 1 g, EQ 2.5 mg Base | AstraZeneca AB.
NDA 201194 | OXYCODONE HYDROCHLORIDE | Oxycodone Hydrochloride | Solution; Oral | 5 mg/5 mL | VistaPharm, LLC.
NDA 204427 | KERYDIN | Tavaborole | Solution; Topical | 5% | Anacor Pharmaceuticals, Inc.
NDA 204592 | ZORVOLEX | Diclofenac | Capsule; Oral | 35 mg | Zyla.
NDA 204790 | TIVICAY | Dolutegravir Sodium | Tablet; Oral | EQ 10 mg Base; EQ 25 mg Base | Viiv Health Care.
NDA 215868 | MIDAZOLAM IN 0.8% SODIUM CHLORIDE | Midazolam | Solution; Intravenous | 50 mg/50 mL (1 mg/mL) | Exela Pharma.

FDA has reviewed its records and, under § 314.161, has determined that the drug products listed were not withdrawn from sale for reasons of safety or effectiveness. Accordingly, the Agency will continue to list the drug products in the “Discontinued Drug Product List” section of the Orange Book. The “Discontinued Drug Product List” identifies, among other items, drug products that have been discontinued from marketing for reasons other than safety or effectiveness.

Approved ANDAs that refer to the drug products listed are unaffected by the discontinued marketing of the products subject to these applications. Additional ANDAs that refer to these products may also be approved by the Agency if they comply with relevant legal and regulatory requirements. If FDA determines that labeling for these drug products should be revised to meet current standards, the Agency will advise ANDA applicants to submit such labeling.

Dated: November 27, 2024.
P. Ritu Nalubola,
Associate Commissioner for Policy.

[FR Doc. 2024-28433 Filed 12-4-24; 8:45 am]

BILLING CODE 4164-01-P